DEPARTMENT OF HEALTH AND HUMAN SERVICES

Centers for Disease Control and Prevention

Board of Scientific Counselors, Office of Public Health Preparedness and Response (BSC, OPHPR)

In accordance with section 10 (a) (2) of the Federal Advisory Committee Act (Pub. L. 92-463), the Centers for Disease Control and Prevention (CDC), announces the following meeting of the aforementioned committee:

Times and Dates:

10:00 a.m.-5:15 p.m., EST, April 7, 2014

8:00 a.m.-3:15 p.m., EST, April 8, 2013

Place: CDC, 1600 Clifton Road NE., Roybal Campus, Building 19, Auditorium B3, Atlanta, Georgia 30329

Status: Open to the public limited only by the space available. The meeting room will accommodate up to 90 people. Public participants should pre-register for the meeting as described in Additional Information for Public Participants. Members of the public who wish to attend this meeting should pre-register by submitting the following information by email, facsimile, or phone (see Contact Person for More Information) no later than 12:00 noon (EDT) on Monday, March 31, 2014:

• Full Name,

• Organizational Affiliation,

• Complete Mailing Address,

• Citizenship, and

• Phone Number or Email Address

Purpose: This Board is charged with providing advice and guidance to the Secretary, Department of Health and Human Services (HHS), the Assistant Secretary for Health (ASH), the Director, Centers for Disease Control and Prevention (CDC), and the Director, Office of Public Health Preparedness and Response (OPHPR), concerning strategies and goals for the programs and research within OPHPR, monitoring the overall strategic direction and focus of the OPHPR Divisions and Offices, and administration and oversight of peer review of OPHPR scientific programs. For additional information about the Board, please visit: http://www.cdc.gov/phpr/science/counselors.htm

Matters for Discussion: The agenda items for this 2-day meeting will include: (1) briefings and BSC deliberation on the following topics: Program response to recommendations made in the Joint Report from the National Biodefense Science Board and the OPHPR BSC; program response to recommendations made in the peer review of the Career Epidemiology Field Officer Program; Hurricane Sandy Research; community approaches to healthcare preparedness; National Health Security Preparedness Index Update; resilience research; global health security; systems thinking in disaster management; scientific applications in disaster management; (2) BSC liaison representative updates to the Board highlighting organizational activities relevant to the OPHPR mission.

Agenda items are subject to change as priorities dictate.

Contact Person for More Information: Marquita Black, Office of Science and Public Health Practice Executive Assistant, Centers for Disease Control and Prevention, 1600 Clifton Road NE., Mailstop D-44, Atlanta, Georgia 30333, Telephone: (404) 639-7325; Facsimile: (404) 639-7977; Email: OPHPR.BSC.Questions@cdc.gov.

The Director, Management Analysis and Services Office, has been delegated the authority to sign Federal Register notices pertaining to announcements of meetings and other committee management activities for both the Centers for Disease Control and Prevention, and Agency for Toxic Substances and Disease Registry.

Elaine L. Baker,
Director, Management Analysis and Services Office, Centers for Disease Control and Prevention.

[FR Doc. 2014-05182 Filed 3-10-14; 8:45 am]

BILLING CODE 4163-18-P